DEPARTMENT OF COMMERCE

International Trade Administration

[A-570-954]

Certain Magnesia Carbon Bricks From the People's Republic of China: Preliminary Results and Partial Rescission of the Antidumping Duty Administrative Review; 2012-2013

AGENCY: Enforcement and Compliance, International Trade Administration, Commerce.

SUMMARY: The Department of Commerce (the “Department”) is conducting the third administrative review of the antidumping duty order on certain magnesia carbon bricks (“bricks”) from the People's Republic of China (“PRC”),¹ for the period of review (“POR”), September 1, 2012, to August 31, 2013. The Department preliminarily determines that there are no reviewable entries during the POR. The Department invites interested parties to comment on these preliminary results.

¹ See Certain Magnesia Carbon Bricks From Mexico and the People's Republic of China: Antidumping Duty Orders, 75 FR 57257 (September 20, 2010) (“Order”).

DATES: Effective October 9, 2014.

FOR FURTHER INFORMATION CONTACT: Jerry Huang, AD/CVD Operations, Office V, Enforcement and Compliance, International Trade Administration, Department of Commerce, 14th Street and Constitution Avenue NW., Washington, DC 20230; telephone: (202) 482-4047.

SUPPLEMENTARY INFORMATION:

Scope of the Order

The merchandise subject to the order includes certain magnesia carbon bricks. Certain magnesia carbon bricks that are the subject of this order are currently classifiable under subheadings 6902.10.1000, 6902.10.5000, 6815.91.0000, 6815.99.2000 and 6815.99.4000 of the Harmonized Tariff Schedule of the United States (“HTSUS”). Although the HTSUS subheadings are provided for convenience and customs purposes, the written description of the merchandise is dispositive.²

² For a full description of the scope of the Order, see Memorandum from Christian Marsh, Deputy Assistant Secretary, AD/CVD Operations, to Paul Piquado, Assistant Secretary for Enforcement and Compliance, “Decision Memorandum for Preliminary Results of Third Antidumping Duty Administrative Review: Certain Magnesia Carbon Bricks From the People's Republic of China,” (“Preliminary Decision Memorandum”) dated concurrently with these results and hereby adopted by this notice.

Background

On September 3, 2013, the Department published an opportunity to request an administrative review of the antidumping duty order for bricks from the PRC.³ In September 2013, the Department received timely requests from interested parties to conduct an administrative review of the antidumping duty order on bricks from the PRC.⁴ Based upon these requests, on November 8, 2013, the Department published a notice of initiation of an administrative review of the Order covering 162 companies.⁵

³ See Antidumping or Countervailing Duty Order, Finding, or Suspended Investigation; Opportunity To Request Administrative Review, 78 FR 54235, (September 3, 2013).

⁴ See Letter to the Department from Resco Products, Inc. (“Petitioner”) and Magnesita Refractories Company (“Magnesita”), “Certain Magnesia Carbon Bricks From the People's Republic of China: Antidumping Duty Administrative Review” (September 30, 2013); Letter to the Department from ANH Refractories Company (“ANH”), “Certain Magnesia Carbon Bricks From the People's Republic of China: Request for Administrative Review” (September 30, 2013).

⁵ See Initiation of Antidumping and Countervailing Duty Administrative Reviews and Request for Revocation in Part, 78 FR 67104 (November 8, 2013) (“Initiation Notice”).

Partial Rescission of the Administrative Review

Pursuant to 19 CFR 351.213(d)(1), the Secretary will rescind an administrative review, in whole or in part, if all parties who requested the review withdraw their requests within 90 days of the date of publication of notice of initiation of the requested review. On January 31, 2014, Petitioner and Magnesita timely withdrew their request for an administrative review for all but two companies.⁶ Because ANH did not withdraw its request for review for three companies, requests for review for a total of five companies remain. Two of the companies for which Petitioner and Magnesita withdrew their request, RHI Refractories Liaoning Co., Ltd. (“RHI”) and Yingkou New Century Refractories Ltd. (“New Century”), previously established their entitlement to a separate rate in a prior segment of this proceeding. No other party requested a review of RHI and New Century. Accordingly, the Department is rescinding this administrative review with respect to RHI and New Century in accordance with 19 CFR 351.213(d)(1).

⁶ See Letter to the Department from Petitioner and Magnesita, “Certain Magnesia Carbon Bricks From the People's Republic of China: Antidumping Duty Administrative Review: Withdrawal Requests” (January 31, 2014).

For those companies named in the Initiation Notice for which all review requests have been withdrawn, but which were not eligible for separate-rate status at the initiation of this review, the Department's practice is to refrain from rescinding the review with respect to these companies at this time.⁷ While the request for review of these companies was timely withdrawn, we preliminarily determine that the companies remain part of the PRC-wide entity. Those companies are listed at Appendix I. The PRC-wide entity is under review for these preliminary results as noted below.⁸ Thus, we are not rescinding this review with respect to these companies, but the Department will make a determination with respect to the PRC-wide entity at the conclusion of this review.

⁷ See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010- 2011, 78 FR 10130 (February 13, 2013).

⁸ A change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013).

Fedmet stated that although the Initiation Notice included Fedmet as a producer of subject merchandise, it is not a PRC producer but a U.S. importer.⁹ Fedmet provided information from this and a previous segment to demonstrate its status as an importer.¹⁰ Based on the information available, the Department preliminarily determines that Fedmet's entries will be subject to the appropriate exporter's cash deposit requirements and assessment rates, as outlined below. Accordingly, we are preliminarily rescinding this review for Fedmet.

⁹ See Letter to the Department from Fedmet, “Magnesia Carbon Bricks From the People's Republic of China, Case No. A-570-954: Entry of Appearance and APO Application” (November 18, 2013).

¹⁰ Id.

Separate Rate Status

For the five companies whose review requests remain,¹¹ we preliminarily determine that only Fengchi demonstrated its continued eligibility for a separate rate because, as discussed below, it demonstrated that it had no shipments during the POR and thus will maintain its separate rate status from the date of the initiation of this administrative review. Puyang, Fengchi Mining Co., Ltd. of Haicheng City, and Fengchi Refractories Corp. did not submit a separate rate application or certification. Therefore, these four companies have not established their eligibility for a separate rate, and the Department preliminarily determines that they be considered part of the PRC-wide entity. Accordingly the PRC-wide entity is under review.

¹¹ Fedmet Resources Corporation (“Fedmet”), Puyang Refractory Co., Ltd. (“Puyang”), Fengchi Imp. and Exp. Co., Ltd. of Haicheng City (“Fengchi”), Fengchi Mining Co., Ltd. of Haicheng City, and Fengchi Refractories Corp.

Preliminary Finding of No Shipments

Fengchi submitted a timely-filed certification that it had no shipments of subject merchandise to the United States during the POR.¹² The Department queried the import data from U.S. Customs and Border Protection (“CBP”) and found no suspended antidumping or countervailing duty entries for Fengchi. The Department issued a no-shipment inquiry to CBP with respect to Fengchi, asking CBP to provide any information contrary to our findings of no suspended entries of subject merchandise exported by Fengchi during the POR. We received no contradictory information from CBP, indicating that there were suspended entries of subject merchandise into the United States exported by Fengchi. Therefore, we preliminarily determine that Fengchi had no shipments of subject merchandise during the POR. Because Fengchi submitted a timely no-shipment certification and CBP data indicated that there were no suspended antidumping or countervailing duty entries for Fengchi during the POR, we preliminarily determine that Fengchi will retain its separate-rate status from the date of the initiation of this administrative review.

¹² See Fedmet's letter dated January 2, 2014.

Methodology

For a full description of the methodology underlying our conclusions, see the Preliminary Decision Memorandum. A list of the topics discussed in the Preliminary Decision Memorandum is attached to this notice in Appendix II. The Preliminary Decision Memorandum is a public document and is on file electronically via Enforcement and Compliance's Antidumping and Countervailing Duty Centralized Electronic Service System (“IA ACCESS”). IA ACCESS is available to registered users at http://iaaccess.trade.gov, and is available to all parties in the Central Records Unit, room 7046 of the main Department of Commerce building. In addition, a complete version of the Preliminary Decision Memorandum can be accessed directly on the internet at http://enforcement.trade.gov/frn/index.html. The signed Preliminary Decision Memorandum and the electronic versions of the Preliminary Decision Memorandum are identical in content.

Preliminary Results of Review

The Department preliminarily determines that the following weighted-average dumping margins exist for the period September 1, 2012, through August 31, 2013:

¹³ The PRC-wide entity includes the companies listed in Appendix I.

Exporter | Weighted-average dumping margin (percent)
PRC-Wide Entity ¹³ | 236.00

Public Comment & Opportunity To Request a Hearing

Interested parties may submit case briefs within 30 days after the date of publication of these preliminary results of review.¹⁴ Rebuttals to case briefs, which must be limited to issues raised in the case briefs, must be filed within five days after the time limit for filing case briefs.¹⁵ Parties who submit arguments are requested to submit with the argument (a) a statement of the issue, (b) a brief summary of the argument, and (c) a table of authorities.¹⁶ Parties submitting briefs should do so pursuant to the Department's electronic filing system, IA ACCESS.

¹⁴ See 19 CFR 351.309(c)(1)(ii).

¹⁵ See 19 CFR 351.309(d)(1)-(2).

¹⁶ See 19 CFR 351.309(c)(2), (d)(2).

Any interested party may request a hearing within 30 days of publication of this notice.¹⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.¹⁸

¹⁷ See 19 CFR 351.310(c).

¹⁸ See 19 CFR 351.310(d).

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.¹⁹ The Department intends to issue assessment instructions to CBP 15 days after the publication date of the final results of this review. We intend to instruct CBP to liquidate entries containing subject merchandise exported by the PRC-wide entity at a rate equal to the weighted-average dumping margin specified above.

¹⁹ See 19 CFR 351.212(b).

The Department announced a refinement to its assessment practice in NME cases. Pursuant to this refinement in practice, for entries that were not reported in the U.S. sales data submitted by companies individually examined during the administrative review, the Department will instruct CBP to liquidate such entries at the rate for the PRC-wide entity. Additionally, if the Department determines that an exporter had no shipments of the subject merchandise, any suspended entries that entered under that exporter's case number (i.e., at that exporter's cash deposit rate) will be liquidated at the rate for the PRC-wide entity.²⁰ The final results of this review shall be the basis for the assessment of antidumping duties on entries of merchandise covered by the final results of this review and for future cash deposits of estimated duties, where applicable.

Cash Deposit Requirements

²⁰ For a full discussion of this practice, see Non-Market Economy Antidumping Proceedings: Assessment of Antidumping Duties, 76 FR 65694 (October 24, 2011).

The following cash deposit requirements will be effective upon publication of the final results of this review for shipments of the subject merchandise from the PRC entered, or withdrawn from warehouse, for consumption on or after the publication date, as provided by sections 751(a)(2)(C) of the Act: (1) For previously investigated or reviewed PRC and non-PRC exporters that received a separate rate in a prior completed segment of this proceeding, the cash deposit rate will continue to be the existing exporter-specific rate; (2) for all PRC exporters of subject merchandise that have not been found to be entitled to a separate rate, the cash deposit rate will be that for the PRC-wide entity; and (3) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

Notification to Interested Parties

These preliminary results are issued and published in accordance with sections 751(a)(1) and 777(i)(1) of the Act and 19 CFR 351.221(b)(4).

Dated: September 29, 2014.
Paul Piquado,
Assistant Secretary for Enforcement and Compliance.

Appendix I

Companies Subject to the Administrative Review That Are Part of the PRC-Wide Entity

1. ANH (Xinyi) Refractories Co. Ltd.

2. Anyang Rongzhu Silicon Industry Co., Ltd.

3. Barsan Global Lojistik Ve Gum. Mus.Bayuquan Refractories Co., Ltd.

4. Beijing Tianxing Ceramic Fiber Composite Materials Corp.

5. Benxi Iron & Steel (Group) International Economic & Trading Co.

6. Changxing Magnesium Furnace Charge Co., Ltd.

7. Changxing Wangfa Architectural & Metallurgical Materials Co., Ltd.

8. Changzing Zhicheng Refractory Material Factory.

9. China Metallurgical Raw Material Beijing Company.

10. China Quantai Metallurgical (Beijing) Engineering & Science Co., Ltd.

11. Chosun Refractories.

12. Cimm Group of China.

13. CNBM International Corporation.

14. Dalian Cerax Co., Ltd.

15. Dalian Dalmond Trading Co., Ltd.

16. Dalian F.T.Z. Huaxin International.

17. Dalian F.T.Z. Maylong Resources Co., Ltd.

18. Dalian Huayu Refractories International Co., Ltd.

19. Dalian LST Metallurgy Co., Ltd.

20. Dalian Masoo International Trading.

21. Dalian Mayerton Refractories Ltd.

22. Dalian Morgan Refractories Ltd.

23. Dashiqiao Bozhong Mineral Products Co., Ltd.

24. Dashiqiao City Magnesite.

25. Dashiqiao City Guangcheng Refractory Co., Ltd.

26. Dashiqiao Jia Sheng Mining Co., Ltd.

27. Dashiqiao Jinlong Refractories Co., Ltd.

28. Dashiqiao RongXing Refractory Material Co., Ltd.

29. Dashiqiao Sanqiang Refractory Material Co., Ltd.

30. Dashiqiao Yutong Packing Factory.

31. Dashiqiao Zhongjian Magnesia.

32. Dengfeng Desheng Refractory Co., Ltd.

33. DFL Minmet Refractories Corp.

34. Duferco SA.

35. Duferco BarInvest SA Beijing Office.

36. Duferco Ironet Shanghai Representative Office.

37. Eastern Industries & Trading Co., Ltd.

38. Far Horizon Trading Limited.

39. Fengchi Mining Co., Ltd of Haicheng City.

40. Fengchi Refractories Co., of Haicheng City.

41. Fengchi Refractories Corp.

42. Ferro Alliages & Mineraux Inc.

43. Firma.

44. Haicheng City Qunli Mining Co., Ltd.

45. Haicheng City Xiyang Import & Export Corporation.

46. Haicheng Donghe Taidi Refractory Co., Ltd.

47. Haicheng Ruitong Mining Co., Ltd.

48. Haiyuan Talc Powder Manufacture Factory.

49. Henan Boma Co. Ltd.

50. Henan Kingway Chemicals Co., Ltd.

51. Henan Tagore Refractories Co., Ltd.

52. Henan Xinmi Changzxing Refractories, Co., Ltd.

53. Hebei Qinghe Refractory Group Co. Ltd.

54. Huailin Refractories (Dashiqiao) Pte. Ltd.

55. Hualude Hardware Products Co. Ltd.

56. Indian Technomac Co., Ltd.

57. Jfe Refractories Corporation.

58. Jiangsu Sujia Group New Materials Co., Ltd.

59. Jiangsu Sujia Joint-Stock Co., Ltd.

60. Jinan Forever Imp. & Emp. Trading Co., Ltd.

61. Jinan Linquan Imp. & Emp. Co. Ltd.

62. Jinan Ludong Refractory Co., Ltd.

63. Kosmokraft Refractory Limited.

64. Kuehne & Nagel Ltd. Dalian Branch Office.

65. Kumas Sanayi Urunleri Ve Insaat Paz.

66. Lechang City Guangdong Province SongXin Refractories Co., Ltd.

67. Liaoning Fucheng Refractories Group Co., Ltd.

68. Liaoning Fucheng Special Refractory Co., Ltd.

69. Liaoning Jiayi Metals & Minerals Ltd.

70. Liaoning Jinding Magnesite Group.

71. Liaoning Mayerton Refractories Co., Ltd.

72. Liaoning Mineral & Metallurgy Group Co., Ltd.

73. Liaoning Qunyi Group Refractories Co., Ltd.

74. Liaoning Qunyi Trade Co., Ltd.

75. Liaoning RHI Jinding Magnesis Co., Ltd.

76. Liaoning Zhongxing Mining Industry Group Co., Ltd.

77. LiShuang Refractory Industrial Co., Ltd.

78. Lithomelt Co., Ltd.

79. Lua Viet Bestref Joint Venture Co.

80. Luheng Refractory Co., Ltd.

81. Luoyang Refractory Group Co., Ltd.

82. Mayerton Refractories.

83. Minsource International Ltd.

84. Minteq International Inc.

85. National Minerals Co., Ltd.

86. Navis Zufall Ueberseespeditions.

87. North Refractories Co., Ltd.

88. Orestar Metals & Minerals Co., Ltd.

89. Oreworld Trade (Tangshan) Co., Ltd.

90. Puyang Refractories Co., Ltd.

91. Qingdao Almatis Co., Ltd. (HQ).

92. Qingdao Almatis Co., Ltd. (Manufacturing).

93. Qingdao Almatis Trading Co., Ltd. (Sales Office).

94. Qingdao Blueshell Import & Emport Corp.

95. Qingdao Fujing Group Co., Ltd.

96. Qingdao Huierde International Trade Co., Ltd.

97. Refratechnik Cement GmbH.

98. Refratechnik Steel GmbH.

99. RHI AG.

100. RHI GLAS GmbH.

101. RHI Refractories Asia Pacific Pte. Ltd.

102. RHI Refractories (Dalian) Co., Ltd.

103. RHI Trading Shanghai Branch.

104. RHI Trading (Dalian) Co., Ltd.

105. Rongyuan Magnesite Co., Ltd. of Dashiqiao City.

106. Shandong Cambridge International Trade Inc.

107. Shandong Lunai Kiln Refractories Co., Ltd.

108. Shandong Refractories Corp.

109. Shanghai Pudong Imp. & Exp. Co. Ltd.

110. Shanghai Vista Packaging Co., Ltd.

111. Shanxi Dajin International (Group) Co., Ltd.

112. Shanxi Xinrong International Trade Co. Ltd.

113. Shenyang Shenghui Refractory Imp.

114. Shenyang Yi Xin Sheng Lai Refractory Materials Co., Ltd.

115. Shinagawa Refractories Co., Ltd.

116. Shinagawa Rongyuan Refractories Co., Ltd.

117. Sinosteel Corporation.

118. SMMC Group Co., Ltd.

119. Store System Inc. O B Dongning Shunf.

120. Syndicate Exp. Pvt., Ltd.

121. Tangshan Success Import & Export Trading Co., Ltd.

122. Tianjin New Century Refractories, Ltd.

123. Tianjin New World Import & Export Trading Co., Ltd.

124. Tianjin Weiyuan Refractory Co., Ltd.

125. The Economic Trading Group of Haicheng Huoying Corporation Ltd.

126. Vereeniging Refractories (Pty).

127. Vesuvius Advanced Ceramics (Suzhou) Co. Ltd.

128. Wonjin Refractories Co., Ltd.

129. Wuxi Tian Liang Foreign Trade Co., Ltd.

130. Xiyuan Xingquan Forsterite Co., Ltd.

131. Yanshi City Guangming High-Tech Refractories Products Co., Ltd.

132. YHS Minerals Co., Ltd.

133. Yingkou Bayuquan Refractories Co., Ltd.

134. Yingkou Bl Mining Co., Ltd.

135. Yingkou Dalmond Refractories Co., Ltd.

136. Yingkou Guangyang Refractories Co., Ltd.

137. Yingkou Guangyang Refractories Co., Ltd. (YGR).

138. Yingkou Heping Samwha Minerals Co., Ltd.

139. Yingkou Jiahe Refractories Co., Ltd.

140. Yingkou Jinlong Refractories Group.

141. Yingkou Kyushu Refractories Co., Ltd.

142. Yingkou Qinghua Group Imp. & Emp. Co., Ltd.

143. Yingkou Qinghua Refractories Co., Ltd.

144. Yingkou Sanhua Refractory Materials Co., Ltd.

145. Yingkou Tianrun Refractory Co.,Ltd.

146. Yingkou Wonjin Refractory Material Co., Ltd.

147. Yingkou Yongji Mag Refractory, Ltd.

148. Yixing Runlong Trade Co., Ltd.

149. Yixing Xinwei Leeshing Refractory Material Co., Ltd.

150. Yixing Zhenqiu Charging Ltd.

151. Zhejiang Changxing Guangming Special Refractory Material Foundry, Co., Ltd.

152. Zhejiang Deqing Jinlei Refractory Co., Ltd.

153. Zhejiang Huzhou Fuzilin Refractory Metals Group Co., Ltd.

154. Zhengzhou Annec Industrial Co., Ltd.

155. Zhengzhou Huachen Refractory Co., Ltd.

156. Zhengzhou Huawei Refractories Co., Ltd.

157. Zibo Lianzhu Refractory Materials Co., Ltd.

Appendix II

List of Topics Discussed in the Preliminary Decision Memorandum:

1. Background

2. Scope of the Order

3. Preliminary Finding of No Shipments

4. Recommendation

[FR Doc. 2014-24158 Filed 10-8-14; 8:45 am]

BILLING CODE 3510-DS-P